DEPARTMENT OF COMMERCE

National Oceanic and Atmospheric Administration

RIN 0648-XK21

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, September 29 - October 7, 2008 at Sheraton Hotel, 401 East 6th Avenue, Anchorage, AK.

DATES: The Council will begin its plenary session at 8 a.m. on Wednesday, October 1 continuing through Tuesday October 7, 2008. The Council's Advisory Panel (AP) will begin at 8 a.m., Monday, September 29 and continue through Saturday October 4. The Scientific and Statistical Committee (SSC) will begin at 8 a.m. on Monday, September 29 and continue through Wednesday October 1, 2008. The Ecosystem Committee will meet Tuesday, September 30, from 9 a.m. to 5 p.m. The Enforcement Committee will meet Tuesday, September 30, from 1 p.m. to 5 p.m. in the. All meetings are open to the public, except executive sessions.

ADDRESSES: The meetings will be held at the Sheraton Hotel, 401 East 6th Avenue, Anchorage, AK.

Council address: North Pacific Fishery Management Council, 605 W. 4th Avenue, Suite 306, Anchorage, AK 99501-2252.

FOR FURTHER INFORMATION CONTACT: David Witherell, Council staff, telephone: (907) 271-2809.

SUPPLEMENTARY INFORMATION: Council Plenary Session: The agenda for the Council's plenary session will include the following issues. The Council may take appropriate action on any of the issues identified.

1. Reports

Executive Director's Report (including Joint Protocol Committee report)

NMFS Management Report (including update on halibut area 2C regulations; update on Community Development Quota oversight regulations, and annual Bering Sea and Aleutian Islands (BSAI) crab report.)

Alaska Department of Fish & Game Report

U.S. Coast Guard Report

U.S. Fish & Wildlife Service Report

Protected Species Report (including update on the BiOp schedule)

2. Halibut Management: Report from ADF&G on Charter halibut harvests; final action on Charter Halibut Catch Sharing Plan; Final action on Area 3A Guideline Harvest measures.

3. BSAI Crab Issues: Receive Plan Team report, approve Crab Stock Assessment Fishery Evaluation Report and adopt Overfishing Levels (OFLs); Final action on St. George Protection Measures; receive BSAI Crab Program 3-year review report; receive Crab Committee report/crew proposals; preliminary review of BSAI 90.10 Amendment package; receive report on Crab Economic Data report metadata; discussion paper on BSAI crab regional delivery emergency relief.

4. Gulf of Alaska (GOA) Sideboards: Final action on GOA sideboards for BSAI crab vessels; Final action on GOA sideboards regarding GOA rockfish; Initial review amendment 80 Prohibited Species Catch.

5. BSAI Salmon Bycatch: Discussion paper on Chum Salmon Bycatch alternatives; review Pollock Intercooperative Agreement report.

6. Arctic Fishery Management Plan (FMP): receive report from Ecosystem Committee; Initial review of the Arctic FMP.

7. Research Priorities: Review and adopt 5-year research priorities.

8. Groundfish Catch Specifications: receive Plan Team reports; action on proposed groundfish harvest specifications.

9. Aleutian Islands Sideboards: discussion paper on sideboards for AI cod processing; discussion paper on sideboards for AI Pacific Ocean Perch/Atka mackerel processing.

10. Miscellaneous Groundfish Management: Committee report on comprehensive data collection (T); discussion paper on BSAI fixed gear parallel fisheries; discussion paper on Bering Sea bottom trawl sweep requirements; review update on Pacific cod area splits (Bering Sea and Aleutian Islands) and take action as necessary; discussion paper on Amendment 80 vessel replacement provisions(T).

11. Staff Tasking: Review Committees and tasking; receive report from Aleutian Island Ecosystem Team.

12. Other Business

The SSC agenda will include the following issues:

1. BSAI crab issues

2. Research Priorities

3. Groundfish specifications

4. GOA Sideboards

5. Groundfish issues

6. Arctic FMP

7. Review Salmon genetics sampling protocol/research grant

The Advisory Panel will address most of the same agenda issues as the Council, except for #1 reports. The Agenda is subject to change, and the latest version will be posted at http://www.fakr.noaa.gov/npfmc/.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: September 2, 2008.
Tracey L. Thompson,
Acting Director, Office of Sustainable Fisheries, National Marine Fisheries Service.

[FR Doc. E8-20604 Filed 9-4-08; 8:45 am]

BILLING CODE 3510-22-S